ENVIRONMENTAL PROTECTION AGENCY

[EPA-HQ-OPP-2010-0014; FRL-9377-1]

Product Cancellation Order for Certain Pesticide Registrations

AGENCY: Environmental Protection Agency (EPA).

ACTION: Notice.

SUMMARY: This notice announces EPA's order for the cancellations, voluntarily requested by the registrants and accepted by the Agency, of the products listed in Table 1 and Table 2 of Unit II., pursuant to the Federal Insecticide, Fungicide, and Rodenticide Act (FIFRA). This cancellation order follows a July 6, 2012 Federal Register Notice of Receipt of Requests from the registrants listed in Table 3 of Unit II., to voluntarily cancel these product registrations. In the July 6, 2012 notice, EPA indicated that it would issue an order implementing the cancellations, unless the Agency received substantive comments within the 180 day comment period that would merit its further review of these requests, or unless the registrants withdrew their requests. The Agency received one comment on the notice but it did not merit its further review of the request. Further, the registrants did not withdraw their requests. Accordingly, EPA hereby issues in this notice a cancellation order granting the requested cancellations. Any distribution, sale, or use of the products subject to this cancellation order is permitted only in accordance with the terms of this order, including any existing stocks provisions.

DATES: The cancellations are effective February 6, 2013.

FOR FURTHER INFORMATION CONTACT: John W. Pates, Jr., Pesticide Re-Evaluation Division (7508P), Office of Pesticide Programs, Environmental Protection Agency, 1200 Pennsylvania Ave., NW., Washington, DC 20460-0001; telephone number: (703) 308-8195; email address: pates.john@epa.gov@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of 340 products registered under FIFRA section 3. These registrations are listed in sequence by registration number (or company number and 24(c) number) in Tables 1 and 2 of this unit.

Table 12—Product Cancellations
EPA Registration No. | Product name | Chemical name
000100-00863 | Sentinel 40WG Turf Fungicide | Cyproconazole.
000100-00874 | Sentinel 40 WG for Repackaging Use Only | Cyproconazole.
000352-00712 | Dupont Throttle MP Herbicide | Sulfometuron, Sulfentrazone, Chlorsulfuron.
000527-00106 | ML-13G | Poly(oxy-1,2- ethanediyl (dimethy limino)-1,2- ethanediyl(dimethy limino)-1,2- ethanediyl dichloride).
000527-00122 | ML-8S | Poly(oxy-1,2- ethanediyl(dimethy limino)-1,2- ethanediyl(dimethy limino)-1,2- ethanediyl dichloride).
000527-00127 | CS-EZ | Poly(oxy-1,2- ethanediyl(dimethy limino)-1,2- ethanediyl(dimethy limino)-1,2- ethanediyl dichloride).
001903-00028 | Petco Ear Mite Remedy | Pyrethrins, Piperonyl butoxide.
002724-00616 | Speer Dairy and Livestock RTU Spray | Piperonyl butoxide, Pyrethrins.
003090-00165 | Sanitized Brand T96-21 | Triclosan.
005204-00001 | Biomet TBTO | Tributyltin oxide.
005383-00127 | Microbanish R | Triclosan.
009339-00012 | Flextin Wood Treatment Concentrate | Tributyltin oxide.
009339-00014 | Flexgard Waterbase Preservative | Tributyltin oxide.
009688-00300 | RG Indoor Insect Control | Piperonyl butoxide, Pyrethrins.
010088-00070 | Bio-Cide | Carbamodithioic acid, methyl-, monopotassium salt, Carbamodithioic acid, cyano-, disodium salt.
040849-00014 | Enforcer Flea and Tick Shampoo for Pets | MGK 264, Piperonyl butoxide, Pyrethrins.
040849-00033 | Enforcer Ant & Roach Killer III | MGK 264, Pyrethrins, Permethrin.
040849-00034 | Enforcer Flea & Tick Spray for Pets II | Piperonyl butoxide, Permethrin, Pyrethrins.
045385-00089 | Cenol Space and Contact Spray | Phenothrin, Tetramethrin.
047000-00044 | Home-Garden and Pet Insecticide | MGK 264, Piperonyl butoxide, Pyrethrins.
050600-00012 | Alas-478 | Phosphoric acid, Benzenesulfonic acid, C10-16-alkyl derivs.
058687-00001 | Chlorine—Liquified Gas Under Pressure | Chlorine.
059807-00013 | Pyriproxyfen 11.23% Insect Growth Regulator | Pyriproxyfen.
063191-00010 | St. Gabriel Laboratories Hot Pepper Wax Insect Repellent | Capasaicin.
070385-00002 | Microban Institutional Spray X-580 | Bromine, MGK-264, Piperonyl butoxide, Pyrethrins, o- Phenylphenol, Benzenemethanamini um, N,N-dimethyl-N- (2-(2-(4-(1,1,3,3- tetramethylbutyl)p henoxy)ethoxy)ethy l)-, chloride.
CO020008 | Distinct Herbicide | Diflufenzopyr- sodium Dicamba, sodium salt.
MA070001 | Dual Magnum | S-Metolachlor.
WA030014 | WIN-FLO 4F | Pentachloronitroben zene.
WA910013 | Clean Crop Phorate 20G | Phorate.

Table 2 contains a list of registrations for which companies paying at one of the maintenance fee caps requested cancellation in the FY 2012 maintenance fee billing cycle. Because maintaining these registrations as active would require no additional fee, the Agency is treating these requests as voluntary cancellations under 6(f)(1).

Table 2—Cancellations of Products Due To Non-Payment of Maintenance Fees
EPA Registration No. | Product name | Chemical name
000100-00897 | Zephyr 0.15 EC Miticide/insecticide | Abamectin.
000100-00902 | Emamectin Benzoate Technical | Emamectin benzoate.
000100-01109 | Cyper EC Insecticide | Cypermethrin.
000100-01138 | Thiolux Jet | Sulfur.
000100-01197 | Azoxystrobin Mold-Retardant 2.08 SC | Azoxystrobin.
000100-01223 | Tecto MP 340 | Thiabendazole.
000100-01229 | Azo-Shield | Azoxystrobin.
000100-01233 | Propi-Shield | Propiconazole.
000100-01234 | Cypro-Shield | Cyproconazole.
000100-01237 | Fludi-Shield | Fludioxonil.
000100-01252 | Tecto-Shield MP 100 | Thiabendazole.
000100-01255 | Difeno-Shield | Difenoconazole.
000228-00160 | Riverdale 3 Plus 3 Amine | 2,4-D, dimethylamine salt; MCPP-p, DMA salt.
000228-00220 | Riverdale 1.25% Hexazinone Liquid Ready-To-Use Weed and Brush Killer | Hexazinone.
000228-00221 | Riverdale 2D + 2DP Amine | 2,4-D, dimethylamine salt; 2,4-DP-p, DMA salt.
000228-00230 | Riverdale 1% Bromacil Granular Weed Killer | Bromacil.
000228-00231 | Riverdale 2% Bromacil Granular Weed Killer | Bromacil.
000228-00232 | Riverdale 1% Bromacil Granular Weed Killer | Bromacil.
000228-00240 | Riverdale Liquid Chlorine Sanitizer | Sodium hypochlorite.
000228-00241 | Riverdale 2.5% Bromacil Liquid Ready-To-Use Weed Killer | 5-Bromo-3-sec-butyl-6-methyluracil, lithium salt.
000228-00263 | Riverdale Super Green Weed and Feed | 2,4-D, 2-ethylhexyl ester.
000228-00290 | Riverdale MCPA-6 Amine | MCPA, dimethylamine salt.
000228-00358 | Esteron 99 Concentrate Herbicide | 2,4-D, 2-ethylhexyl ester.
000228-00364 | Riverdale Credit Herbicide | Glyphosate- isopropylammonium.
000228-00375 | Riverdale Corsair Selective Herbicide | Chlorsulfuron.
000228-00384 | Riverdale Tahoe 3A Herbicide | Triclopyr, triethylamine salt.
000228-00385 | Riverdale Tahoe 4E Herbicide | Acetic acid, ((3,5,6-trichloro- 2-pyridinyl)oxy)-, 2-butoxyethyl ester.
000228-00394 | Riverdale Resound 720 | Chlorothalonil.
000228-00396 | Riverdale Banderole Fungicide | Propiconazole.
000228-00398 | Riverdale Endurance Herbicide | Prodiamine.
000228-00399 | Riverdale Predict Herbicide | Norflurazon.
000228-00437 | Bifenthrin 0.029% Plus Fertilizer | Bifenthrin.
000228-00438 | Bifenthrin 7.9% FL Nursery | Bifenthrin.
000228-00439 | Bifenthrin P1 Granular Insecticide | Bifenthrin.
000228-00450 | Menace PL Granular Insecticide | Bifenthrin.
000228-00452 | Menace GC Granular Insecticide | Bifenthrin.
000228-00454 | Menace Nursery Granular Insecticide | Bifenthrin.
000228-00456 | Proclipse 65 WDG | Prodiamine.
000228-00481 | Bifenthrin 0.058% Granular Insecticide | Bifenthrin.
000228-00482 | Bifenthrin 0.115% Granular | Bifenthrin.
000228-00486 | Mantra 2F Greenhouse and Nursery Insecticide | Imidacloprid.
000228-00497 | Bifenthrin 0.2% Granular | Bifenthrin.
000228-00518 | Tahoe 3A Herbicide | Triclopyr, triethylamine salt.
000228-00519 | Menace GC 0.058% Plus Fertilizer | Bifenthrin.
000228-00532 | Imidacloprid 4.6 F PCO | Imidacloprid.
000228-00550 | ETI 108 10 H | Dithiopyr.
000228-00556 | Menace 25 MC | Bifenthrin.
000228-00559 | NUP 06211 GC Insecticide | Bifenthrin, Imidacloprid.
000228-00560 | NUP 06211 | Bifenthrin, Imidacloprid.
000228-00561 | Trooper 101 Mixture Herbicide | Picloram; 2,4-D, Triisopropanolamine salt.
000228-00574 | Atera GC Granular Insecticide | Bifenthrin, Imidacloprid.
000228-00575 | Atera LC Granular Insecticide | Bifenthrin, Imidacloprid.
000228-00576 | Atera 0.36 GC Granular Insecticide | Bifenthrin, Imidacloprid.
000228-00577 | Atera 0.36 LC Granular Insecticide | Bifenthrin, Imidacloprid.
000228-00578 | Atera 0.3 GC Fertilizer Insecticide | Bifenthrin, Imidacloprid.
000228-00579 | Atera 0.3 LC Fertilizer Insecticide | Bifenthrin, Imidacloprid.
000228-00580 | Atera 0.225 GC Fertilizer Insecticide | Bifenthrin, Imidacloprid.
000228-00581 | Atera 0.225 LC Fertilizer Insecticide | Bifenthrin, Imidacloprid.
000228-00582 | Atera 0.18% GC Fertilizer Insecticide | Bifenthrin, Imidacloprid.
000228-00583 | Atera 0.18% LC Fertilizer Insecticide | Bifenthrin, Imidacloprid.
000228-00584 | Atera 0.15% GC Fertilizer Insecticide | Bifenthrin, Imidacloprid.
000228-00585 | Atera 0.15% LC Fertilizer Insecticide | Bifenthrin, Imidacloprid.
000228-00598 | Nufarm Bifenthrin Pro 2 | Bifenthrin.
000228-00605 | Nufarm Permethrin Pro | Permethrin.
000228-00622 | Chlorpyrifos SPC 0.5% MCB Insecticide | Chlorpyrifos.
000228-00634 | Quinclorac G-Pro 75 DF | Quinclorac.
000228-00645 | Oxadiazon E-Pro Granular Herbicide | Oxadiazon.
000228-00646 | Mepiquat E-Ag Plant Growth Regulator | Mepiquat chloride.
000228-00648 | T-Pac E-Pro EC Plant Growth Regulator | Trinexapac-ethyl.
000228-00650 | ETI 106 01 I—NC | Abamectin.
000228-00651 | ETI 106 01 I—C | Abamectin.
000228-00663 | ETI 105 01 H | Oxyfluorfen.
000228-00664 | ETI 114 01 H | Nicosulfuron.
000228-00677 | ETI 114 02 H | Nicosulfuron.
000264-00380 | Prep Brand Plant Regulator for Cotton | Ethephon.
000264-00686 | Tribute Solo WG32 Herbicide | Foramsulfuron; Iodosulfuron-methyl-sodium.
000264-00732 | Sencor 70% Wettable Powder Sugarcane Herbicide | Metribuzin.
000264-00821 | Ginstar (R) 4.5 SC Cotton Defoliant | Diuron; Thidiazuron.
000264-00828 | Gaucho 600 SC Insecticide | Imidacloprid.
000264-00857 | NTN 33893 Liquid Ant Bait | Imidacloprid.
000264-00962 | Gaucho 480 FS Flowable | Imidacloprid.
000264-00963 | Gaucho 75 ST FS Insecticide | Imidacloprid.
000264-01037 | RTP 072006 Liquid Ant Bait | Imidacloprid.
000264-01058 | RTP 017495 | Imidacloprid.
000264-01110 | Aeris Votivo | Imidacloprid; Thiocarb; Bacillus firmus strain I-1582.
000524-00370 | Roundup L & G Concentrate Grass & Weed Killer | Glyphosate- isopropylammonium.
000524-00440 | Roundup Rainfast Herbicide | Glyphosate- isopropylammonium.
000524-00526 | MON 37525W Herbicide MON 37525 NC | Sulfosulfuron.
000524-00541 | MON 78736 Herbicide | Glyphosate- isopropylammonium; triclopyr, triethylamine salt.
000524-00542 | MON 78783 Herbicide | Glyphosate- isopropylammonium; triclopyr, triethylamine salt.
000524-00546 | MON 79158 Herbicide | Diquat dibromide; Glyphosate- isopropylammonium; Imazapic-ammonium.
000524-00547 | MON 78868 Herbicide | Diquat dibromide; Glyphosate- isopropylammonium; Imazapic-ammonium.
000577-00552 | Vinyl Waterbase Antifouling Paint 888 | Cuprous oxide.
000577-00553 | 8010-682-6437 Paint, Antifouling, Vinyl-Red MIL-P-15931B, Formula 121/ | Cuprous oxide.
000577-00554 | 8010-290-4247 Paint, Antifouling Vinyl-Black MIL-P-16189B FORM 129/63 | Copper as elemental; Cupric oxide; Cuprous oxide.
000577-00555 | Paint, Antifouling Cold Plastic Shipbottom, Formula 105 MIL-P-19451B | Cuprous oxide.
000577-00563 | Copper Paint No. 1 | Cuprous oxide.
000577-00564 | Copper Paint No. 2 | Cuprous oxide.
000577-00565 | Rappahannock Copper Paint 4 | Cuprous oxide.
000577-00566 | Rappahannock Copper Paint 7 | Cuprous oxide.
000577-00567 | Copper Paint No. 3 Rappoxy 75 Red | Cuprous oxide.
000577-00568 | Copper Paint No. 5 Rappoxy 60 Red | Cuprous oxide.
000829-00279 | SA-50 Dursban 2E Insecticide | Chlorpyrifos.
000829-00280 | SA-50 Dursban 4-E Insecticide | Chlorpyrifos.
000829-00294 | Deltamethrin 0.1% Granules | Deltamethrin.
000961-00273 | Lebanon Preemergence Weed Control | DCPA.
000961-00376 | Koos Crabgrass Preventer with 0.574 Barricade Preemergence Herbicide | Prodiamine.
000961-00377 | Koos Crabgrass Preventer with 0.383 Barricade Preemergence Herbicide | Prodiamine.
000961-00384 | Par Ex Slow Release Fertilizer with 0.21% Barricade Herbicide | Prodiamine.
000961-00385 | Par Ex Slow Release Fertilizer with 0.275% Barricade Herbicide | Prodiamine.
000961-00386 | Par Ex Slow Release Fertilizer with 0.30% Barricade | Prodiamine.
001381-00217 | Prosolutions Propiconazole | Propiconazole.
001529-00047 | Fungitrol 2010 | Chlorthalonil; Carbamic acid, butyl-, 3 iodo-2-propynyl ester.
001529-00048 | Fungitrol 2002 | Chlorthalonil; 1,3,5-Triazine-2,4-diamine, N-Cyclopropyl-N'-(1,1-dimethylethyl)-6-(methylthio)-.
001677-00208 | Spiriclens Spray | Isopropyl alcohol.
001677-00224 | Premier 70/30 Sterile IPA Spray | Isopropyl alcohol.
001677-00227 | Performance LS Laundry Sanitizer | Ethaneperoxoic acid; Hydrogen peroxide.
002517-00080 | Sergeant's Cyphenothrin + IGR Squeeze-On for Dogs | Cyphenothrin; Pyripoxyfen.
002517-00085 | Sergeant's Cyphenothrin Squeeze-On for Dogs | Cyphenothrin.
002596-00122 | Hartz 2 in 1 Flea & tick Spray with Deodorant for Dogs III | Gardona (cis-isomer).
002596-00123 | Hartz 2 in 1 Fast Acting Flea & Tick Spray for Cats with Rabon | Gardona (cis-isomer).
002724-00651 | Farnam Natural Bug Guard Mist A. | Pyrethrins; Piperonyl butoxide.
002724-00690 | Ion Moss | Copper as elemental; Zinc.
003008-00017 | Osmose K-33-C (72%) Wood Preservative | Arsenic oxide; Chromic acid; Cupric oxide.
003432-00028 | On Guard Premium Pool Algaecide Granular Concentrate | Poly(oxyethylene(dimethylimino) ethylene(dimethylimino)ethylene dichloride).
004787-00036 | Glyfos Au Herbicide | Glyphosate- isopropylammonium.
004822-00410 | Fresh Scent Vanish Thick Liquid Toilet Bowl Cleaner | Alkyl* dimethyl ethylbenzyl ammonium chloride; Hydrochloric acid.
004822-00450 | Off! Yard & Deck Area Repellent II | Permethrin; d-trans-Allethrin.
005785-00068 | Bromine Chloride | Bromine chloride.
006836-00210 | Dantobrom TC | 1-Bromo-3-chloro-5,5- dimethylhydantoin; 1,3-Dichloro-5,5-dimethylhydantoin; 1,3-Dichloro-5-ethyl-5-mehtyl-hydantoin.
007313-00020 | ABC 3 Marine Antifouling Paint | Cuprous oxide.
007969-00223 | Regent TS Insecticide | Fipronil.
008622-00026 | Halobrom-G | 2,4- Imidazolidinedione, 1-bromo-3-chloro-5,5-dimethyl-.
008622-00027 | Halobrom T-30 | 2,4- Imidazolidinedione, 1-bromo-3-chloro-5,5-dimethyl-.
008622-00065 | Biobrom C-100T | 2,2-Dibromo-3-nitrilopropionamide.
008622-00066 | Sodium Bromide 45% | Sodium bromide.
008622-00067 | Sodium Bromide 43% | Sodium bromide.
008622-00076 | Fuzzicide-SP (Ammonium Bromide) | Ammonium bromide.
035935-00001 | Trifluralin 50W | Trifluralin.
040810-00020 | Irgaguard F3000 | Thiabendazole.
042964-00031 | A-456-N | Alkyl* dimethyl benzyl ammonium chloride *(50%C14, 40%C12, 10%C16); 1-Decanaminium, N-decyl-N,N-dimethyl, chloride.
045309-00010 | Aqua Clear Algae Preventative | Poly(oxyethylene(dimethylimino) ethylene(dimethylimino)ethylene dichloride).
045309-00011 | Spa Clear Non-Foaming Algaecide | Poly(oxyethylene(dimethylimino) ethylene(dimethylimino)ethylene dichloride).
045309-00037 | Swim Free Non-Foaming Black Algaecide for Swimming Pool | Poly(oxyethylene(dimethylimino) ethylene(dimethylimino)ethylene dichloride).
045309-00038 | Hydrology Cooling Tower Microbiocide | Poly(oxyethylene(dimethylimino) ethylene(dimethylimino)ethylene dichloride).
045309-00080 | Aqua Clear Algae Eliminator | Poly(oxyethylene(dimethylimino) ethylene(dimethylimino)ethylene dichloride).
048273-00012 | Asulam Herbicide | Asulam, sodium salt.
048273-00020 | Marman Mancozeb 80% WP | Mancozeb.
050534-00114 | Tuffcide 960 | Chlorothalonil.
050534-00115 | Tuffcide 404 | Chlorothalonil.
050534-00197 | Tuffcide 500 | Chlorothalonil.
050534-00227 | Tufficide 960 MUP | Chlorothalonil.
050534-00228 | Tuffcude 404 MUP | Chlorothalonil.
051036-00448 | Glyphosate Isopropylamine Salt 62% Technical Solution | Glyphosate-isopropylammonium.
055146-00051 | ACP Flowable Sulfur | Sulfur.
055146-00061 | Gibgro 2LS | Gibberellic acid.
055146-00066 | Gibgro 10% Powder | Gibberellic acid.
055146-00067 | Gibgro 20% Tablet | Gibberellic acid.
055146-00068 | Gibgro P | Gibberellic acid.
055146-00069 | Gibgro 2L | Gibberellic acid.
055146-00089 | Fireman | Calcium oxytetracycline.
055146-00095 | Enable WSP/Agritin Agricultural Fungicide Co-Pack | Fenbuconazole; Fentin hydroxide.
055146-00104 | NUP 08103 | Myclobutanil.
061272-00004 | Weed Out 2,4-D Amine 6 Pound | 2,4-D,dimethylamine salt.
061483-00011 | P1/P13 Creosote Oil | Creosote Oil (Note: Derived from any source).
061483-00012 | P2 Creosote Coal Tar Solution | Coal tar; Creosote oil.
066330-00397 | Supremacy Herbicide Tank Mix | Fluroxypyr 1-methylheptyl ester; Thifensulfuron; Tribenuron-methyl.
066330-00398 | Everest KO Herbicide Tank Mix | Flucarbazone-sodium; Fluroxypyr 1-methylheptyl ester.
067071-00012 | Acticide DQ | 5-Chloro-2-methyl-3(2H)- isothiazolone; 2-Methyl-3(2H)-isothiazolone.
067071-00052 | Acticide MBL 5505 | Bronopol; 2-Methyl-3(2H)- isothiazolone; 1,2-Benziso-thiazolin-3-one.
067262-00008 | Aqua Chem Balanced for Clean Spas Algaecide | Poly(oxyethylene(dimethylimino) ethylene(dimethylimino)ethylene dichloride).
067690-00027 | Spin Out 300 | Copper hydroxide.
069681-00023 | Clor Mor Cal-Shock Plus | Calcium hypochlorite; Boron sodium oxide, penta hydrate.
070506-00117 | Clopyr Brush | 3,6-Dichloro-2-pyridinecarboxylic acid, alkanolamine salts.
070506-00215 | Orbit 45WP Agpak/Dupont Super Tin 80WP Agpak | Fentin hydroxide; Propiconazole.
071368-00015 | 2,4-D 2-EHE Gel Broadleaf Herbicide | 2,4-D, 2-ethylhexyl ester.
071368-00016 | Rhonox (R) EW Broadleaf Herbicide | MCPA, 2-ethylhexyl ester.
071368-00019 | Weedone 638 Solventless Broadleaf Herbicide | 2,4-D; 2,4-D, 2-ethylhexyl ester.
071368-00023 | Nufarm Kamba 4SL Herbicide | Benoic acid, 3,6-dichloro-2-methoxy-, compound with N- methylmethamine (1:1).
071368-00026 | Mextrol WP Herbicide | Bromoxynil octanoate.
071368-00041 | Pasture MD | 2,4-D, dimethylamine salt; Dicamba, dimethylamine salt; Metsulfuron.
071368-00064 | Assert SG Herbicide | Imazamethabenz.
071368-00067 | Bromox/MCPA 2-2 Herbicide | Bromoxynil octanoate; MCPA, 2-ethylhexyl ester.
071368-00068 | Bromox + Atrazine | Atrazine; Bromoxynil octanoate.
071368-00069 | Bromox 2E | Bromoxynil octanoate.
071368-00072 | Cutback | 2,4-D, triisopropanolamine salt; 3,6-Dichloro-2-pyridinecarboxylic acid, alkanolamine salts.
071368-00073 | NUP 05 022 Herbicide | Clopyralid; MCPA, 2-ethylhexyl ester.
085827-00001 | Green Light Wettable Dusting Sulphur | Sulfur.
085827-00010 | Green Light Com-Pleet 18% Systemic Grass & Weed Killer | Glyphosate-isopropylammonium.
085827-00011 | Green Light Com-Pleet 1.92% Systemic Grass & Weed Killer | Glyphosate-isopropylammonium.
085827-00012 | Green Light Com-Pleet Systemic Grass & Weed Killer | Glyphosate-isopropylammonium.
085827-00013 | Green Light Permethrin Dust | Permethrin.
AK020001 | Linex 50 DF | Linuron.
AL020007 | Super Boll | Ethephon.
AL020008 | Acephate 75SP | Acephate.
AL070004 | Provado 1.6 Flowable Insecticide | Imidacloprid.
AR050002 | Ricestar HT Herbicide | Fenoxaprop-p-ethyl.
AR050008 | Ignite 280 SL Herbicide | Glufosinate.
AR960004 | Linex 4L | Linuron.
AZ060010 | Karate Insecticide | Lambda-Cyhalothrin.
AZ070001 | Bollgard Cotton | Bacillus thuringiensis var. kurstaki dekta endotaoxin protein as produced by the CrylA(c) gene.
AZ990003 | Imidan 70-WP Agricultural Insecticide | Phosmet.
CA050005 | Direx 4L | Diuron.
CA050008 | Courier 40SC Insect Growth Regulator | Buprofezin.
CA060005 | Admire Pro Systemic Protectant | Imidacloprid.
CA070010 | Talus 40 SC Insect Growth Regulator | Buprofezin.
CA860037 | Furadan 4 Flowable | Carbofuran.
CA980018 | Olin HTH Dry Chlorinator Granular | Calcium hypochlorite.
CO000003 | Acephate 75SP | Acephate.
CO030003 | Balance 4SC Herbicide | Isoxaflutole.
CO030010 | Epic DF Herbicide | Flufenacet; Isoxaflutole.
CO070005 | Talus 40 SC Insect Growth Regulator | Buprofezin.
CO970001 | Linex 50 DF | Linuron.
CT020002 | Captan 50 Wettable Powder | Captan.
DE080001 | Ridomil Gold Copper | Copper hydroxide; Metalaxyl-M.
FL040012 | Courier 40SC Insect Growth Regulator | Buprofezin.
FL050005 | Karmex DF | Diuron.
FL070004 | Provado 1.6 Flowable Insecticide | Imidacloprid.
FL860008 | Decco Salt No. 19 | Thiabendazole.
FL940012 | Captec 4L-Captan Flowable Fungicide | Captan.
FL980005 | Folicur 3.6 F Foliar Fungicide | Tebuconazole.
GA020004 | Super Boll | Ethephon.
GA040001 | Chlorpyrifos 4# AG | Chlorpyrifos.
GA040008 | Dupont Asana XL Insecticide | Esfenvalerate.
HI960004 | Ethepon 2# | Ethephon.
ID020019 | Acephate 75SP | Acephate.
ID050003 | Everest 70% Water Dispersible Granular Herbicide | Flucarbazone-sodium.
ID060003 | Furadan LFR Insecticide/nematicide | Carbofuran.
ID080008 | Endura Fungicide | Boscalid.
ID940008 | Dimethoate 4E | Dimethoate.
ID960013 | Aliette WDG Fungicide | Fosetyl-Al.
ID970011 | Dimethoate 4E | Dimethoate.
KS030006 | Direx 4L | Diuron.
KS050001 | Balance Pro | Isoxaflutole.
KS050002 | Epic DF Herbicide | Flufenacet; Isoxaflutole.
KS050005 | Radius Herbicide | Flufenacet; Isoxaflutole.
KS090002 | Balance Flexx Herbicide | Isoxaflutole.
LA020004 | Direx 4L | Diuron.
LA040003 | Phorate 20-G | Phorate.
LA050002 | Ricestar HT Herbicide | Fenoxaprop-p-ethyl.
LA050005 | Acephate 90SP | Acephate.
LA080011 | Baseline Pretreatment Termiticide | Bifenthrin.
LA990016 | Griffin Linuron 4L Flowable Weed Killer | Linuron.
MD980002 | Princep Caliber 90 Herbicide | Simazine.
ME050002 | Dupont Assure II Herbicide | Quizalofop-p-ethyl.
MN000003 | Axiom DF Herbicide | Flufenacet; Metribuzin.
MN000006 | Dupont Assure II Herbicide | Quizalofop-p-ethyl.
MN060001 | Everest 70% Water Dispersable Granular Herbicide | Flucarbazone-sodium.
MO990002 | Epic | Flufenacet; Isoxaflutole.
MS010007 | Glyphosate 4 Herbicide | Glyphosate-isopropylammonium.
MS020019 | Acephate 90SP | Acephate.
MS070001 | Chlorpyrifos 4E AG | Chlorpyrifos.
MS080002 | Temprano | Abamectin.
MS110005 | A15189 Herbicide | Glyphosate; Mesotrione; S-Metolachlor.
MS960007 | Linex 4L | Linuron.
MT080002 | Endura Fungicide | Boscalid.
MT990005 | Gustafson LSP Flowable Fungicide | Thiabendazole.
NC010003 | Captan 50-WP | Captan.
NC080006 | Permethrin 3.2 AG | Permethrin.
NC100002 | Prime + EC | Flumetralin.
ND010012 | Kumulus DF | Sulfur.
ND110006 | AE 0172747 Herbicide | Tembotrione.
NM020001 | Arsenal Herbicide | Imazapyr, isopropylamine salt.
NY070005 | 4-Poster-Tickicide | Permethrin.
NY080013 | Headline Fungicide | Pyraclostrobin.
NY110001 | Headline SC | Pyraclostrobin.
OH040001 | Dual Magnum Herbicide | S-Metolachlor.
OH060002 | Dual Magnum | S-Metolachlor.
OR040017 | Axiom DF Herbicide | Flufenacet; Metribuzin.
OR040022 | Hoelon 3EC Herbicide | Diclofop-methyl.
OR050027 | Everest 70% Water Dispersible Granular Herbicide | Flucarbazone-sodium.
OR060017 | Furadan LFR Insecticide/nematicide | Carbofuran.
OR080013 | Pendant 3.3 EC | Pendimethalin.
OR080023 | Rely 200 Herbicide | Glufosinate.
PA070004 | Talus 40 SC Insect Growth Regulator | Buprofezin.
PA080003 | Dual Magnum | S-Metolachlor.
PR020002 | Mertect (R) 340-F Fungicide | Thiabendazole.
PR030001 | Reglone Dessicant | Diquat dibromide.
PR890002 | Ethrel Pineapple Growth Regualtor | Ethephon.
SC040001 | Chlorpyrifos 4# AG | Chlorpyrifos.
SC960007 | Captan 50 Wettable Powder | Captan.
SC980006 | Captan 50 Wettable Powder | Captan.
SD000015 | Balance Pro Herbicide | Isoxaflutole.
SD040001 | Define SC Herbicide | Flufenacet.
SD040005 | Princep 4L | Simazine.
SD040006 | Axiom DF Herbicide | Flufenacet; Metribuzin.
SD050002 | Epic DF Herbicide | Flufenacet; Isoxaflutole.
SD060004 | Frontier 6.0 Herbicide | Dimethenamid.
SD060008 | Domain DF Herbicide | Flufenacet; Metribuzin.
TN070003 | Provado 1.6 Flowable Insecticide | Imidacloprid.
TX010015 | Griffin Linuron 4L Flowable Weed Killer | Linuron.
TX030008 | Direx 4L | Diuron.
TX070002 | Vista | Fluroxypyr 1-methyl ester.
TX090005 | Dupont Layby Pro Herbicide | Diuron; Linuron.
TX930021 | Dimethoate 4E | Dimethoate.
UT000001 | Acephate 75SP | Acephate.
UT090003 | Endura Fungicide | Boscalid.
VA070001 | Talus 40 SC Insect Growth Regulator | Buprofezin.
WA000014 | Daconil SDG | Chlorothalonil.
WA010018 | Manzate 200 DF Fungicide | Mancozeb.
WA010033 | Carzol SP Miticide/insecticide in Water Soluble Packaging | Formetanate hydrochloride.
WA030023 | Axiom DF Herbicide | Flufenacet; Metribuzin.
WA050006 | Mycoshield | Calcium oxytetracycline.
WA050011 | Mycoshield | Calcium oxytetracycline.
WA060010 | Osprey Herbicide | Mesosulfuron-methyl.
WA940026 | Captan 50 Wettable Powder | Captan.
WA960003 | Dimethoate 4E | Dimethoate.
WA970030 | Dimethoate 4E | Dimethoate.
WI020018 | Acephate 75SP | Acephate.
WV070001 | Provado 1.6 Flowable Insecticide | Imidacloprid.
WY080004 | Endura Fungicide | Boscalid.

Table 3 of this unit includes the names and addresses of record for all registrants of the products in Tables 1 and 2 of this unit, in sequence by EPA company number. This number corresponds to the first part of the EPA registration numbers of the products listed in this unit.

Table 3—Registrants of Cancelled Products
EPA company No. | Company name and address
100:
AZ060010; DE080001; MA070001; MD980002; MS110005; NC100002, OH040001; OH060002; PA080003; PR020002; PR030001; SD040005 | Syngenta Crop Protection, LLC, d/b/a Syngenta Crop Protection, Inc., P.O. Box 18300, Greensboro, NC 27419-300.
228 | Nufarm Americas, Inc., 4020 Aerial Center Pkwy., Suite 103, Morrisville, NC 27560.
264:
AL070004; AR050002; AR050008; CA060005; CO030003; CO030010; FL980005; FL070004; ID960013; KS050001; KS050002; KS050005; KS090002; LA050002; MN000003; MO990002; MT990005; ND110006; OR040017; OR040022; OR080023; PR890002; SD000015; SD040001; SD040006; SD050002; SD060008; TN070003; WA030023; WA060010; WV070001 | Bayer Cropscience LP, P.O. Box 12014, 2 T.W. Alexander Dr., Research Triangle Park, NC 27709.
352:
AK020001; AL020007; AR960004; CA050005; CO970001; GA020004; GA040008; KS030006; LA990016; LA020004; ME050002; MN000006; MS960007; TX010015; TX030008; TX090005 | E. I. Du Pont De Nemours And Company (S300/419), 1007 Market St., Wilmington, DE 19898-0001.
524:
AZ070001 | Monsanto Co., 1300 I St., NW., Suite 450 E., Washington, DC 20005.
527 | Rochester Midland Corporation 155 Paragon Dr., Rochester, NY 14624.
577 | The Sherwin-Williams Co., Cuprinol Group/The Thompson's Co., 101 Prospect Ave., Cleveland, OH 44115-1075.
829 | Southern Agricultural Insecticides, Inc., P.O. Box 218, Palmetto, FL 34220.
961 | Lebanon Seaboard Corp., 1600 E. Cumberland St. Lebanon, PA 17042.
1258:
CA980018 | Arch Chemicals, Inc., 5660 New Northside Dr., NW., Suite 1100 Atlanta, GA 30328.
1381:
OR08001 | Winfield Solutions, LLC, P.O. Box 64589, St. Paul, MN 55164-0589.
1529 | International Specialty Products, 1361 Alps Rd., Wayne, NJ 07470
1677 | Ecolab, Inc., 370 North Wabasha St., St. Paul, MN 55102.
1903 | Eight in One Pet Products, Inc., 3001 Commerce St. Blacksburg, VA 24060.
2517 | Sergeant's Pet Care Products, Inc., 2625 South 158th Plaza Omaha, NE 68130.
2596 | The Hartz Mountain Corp., 400 Plaza Dr., Secaucus, NJ 07094.
2724 | Wellmark International, d/b/a Central Life Sciences, 1501 E. Woodfield Rd., Suite 200 W., Schaumburg, IL 60173.
3008 | Osmose, Inc., 980 Ellicott St., Buffalo, NY 14209.
3090 | Sanitized, Inc., 57 New Milford Tkpe., P.O. Box 2211, New Preston, CT 06777-0211.
3432 | N. Jonas & Co., Inc., P.O. Box 425 B, Bensalem, PA 19020.
4787 | Cheminova, Inc., 1600 Wilson Blvd., Suite 700, Arlington, VA 22209.
4822 | S.C. Johnson & Son, Inc., 1525 Howe St., Racine, WI 53403.
5204 | Arkema, Inc., 900 First Ave., King of Prussia, PA 19406-1308.
5383 | Troy Chemical Corp., 8 Vreeland Rd., P.O. Box 955, Florham Park, NJ 07932-4200.
5785 | Great Lakes Chemical Corp., P.O. Box 2200, West Lafayette, IN 47996-2200.
6836 | Lonza, Inc., 90 Boroline Rd., Allendale, NJ 07401.
7313 | PPG Architectural Finishes Inc., 4325 Rosanna Dr., Allison Park, PA 15101.
7969:
ID080008; MT080002; NY080013; NY110001; SD060004; UT090003; WY080004 | BASF Corp., Agricultural Products, P.O. Box 13528, Research Triangle Park, NC 27709-3528.
8622 | ICL-IP America, Inc., 95 Maccorkle Ave. Southwest, South Charleston, WV 25303.
9339 | Flexabar Corp., 1969 Rutgers University Blvd., Lakewood, NJ 08701.
9688 | Chemsico, P.O. Box 142642, St. Louis, MO 63114-0642.
10088 | Athea Laboratories, Inc., P.O. Box 240014, Milwaukee, WI 53224.
10163:
AZ990003; WA010033 | Gowan Co., P.O. Box 5569, Yuma, AZ 85366-8844.
35935 | Nufarm Limited, 4020 Aerial Center Pkwy., Suite 103, Morrisville, NC 27560.
40810 | BASF Corp., 100 Campus Dr., Florham Park, NJ 07932.
40849 | Zep Commercial Sales & Service, Agent: Connie Welch and Associates, 4196 Merchant Plaza 344, Lake Ridge, VA 22192.
42964 | Airkem Professional Products Division of Ecolab, Inc., 370 North Wabasha St., St. Paul, MN 55102.
45309 | Aqua Clear Industries, LLC P.O. Box 2456, Suwanee, GA 30024-0980.
45385 | CTX-Cenol, Inc., Agent: H.R. McLane, Inc., 7210 Red Rd., Suite 206A, Miami, FL 33143.
47000 | Chem-Tech, LTD., 4515 Fleur Dr., 303, Des Moines, IA 50321.
48273 | Marman USA, Inc., 500 N. Westshore Blvd., Suite 405, Tampa, FL 33609.
50534:
WA000014 | GB Biosciences Corp., P.O. Box 18300, Greensboro, NC 27419-5458.
50600 | Shepard Bros., Inc., 503 S. Cypress St., La Habra, CA 90631.
51036:
MS010007 | BASF Sparks, LLC, P.O. Box 13528, Research Triangle Park, NC 27709-3528.
55146:
WA050006; WA050011 | Nufarm Americas, Inc., 4020 Aerial Center Pkwy., Suite 103, Morrisville, NC 27560.
58687 | Georgia Gulf Chemicals & Vinyls, LLC, P.O. Box 629, Plaquemine, LA 70765-0629.
59807 | OHP, Inc., Agent: Exponent Inc., 1150 Conn. Ave., NW., Suite 1100, Washington, DC 20036.
61272 | Nufarm USA, Inc., 4020 Aerial Center Pkwy., Suite 101, Morrisville, NC 27560-8563.
61483 | KMG-Bernuth, Inc., 9555 W. Sam Houston Pkwy. South, Suite 600, Houston, TX 77099.
63191 | St. Gabriel Organics, LLC, d/b/a St. Gabriel Organics, Agent: Center for Regulatory Services, 5200 Wolf Run Shoals Rd., Woodbridge, VA 22192.
66330:
AL020008; CO000003; CT020002; FL940012; A040001;HI960004; ID940008; ID970011; ID020019; ID050003; LA050005; MN060001; MS020019; MS070001; NC010003; NC080006; ND010012; OR050027; SC960007; SC980006; SC040001; TX930021; UT000001; WA940026; WA960003; WA970030; WI020018 | Arysta Lifescience North America, LLC, 15401 Weston Pkwy., Suite 150, Cary, NC 27513.
67071 | THOR GMBH, Agent: THOR Specialties, Inc., 50 Waterview Dr., Shelton, CT 06484.
67262 | Recreational Water Products Inc., d/b/a Recreational Water Products, P.O. Box 1449, Buford, GA 30515-1449.
67690 | Sepro Corp., 11550 N. Meridian St., Suite 600, Carmel, IN 46032.
69681 | Allchem Performance Products, Inc., 6010 NW, First Place, Gainesville, FL 32607.
70385 | Prorestore Products, Agent: Lewis & Harrison, LLC, 122 C St., NW., Suite 740, Washington, DC 20001.
70506:
WA010018 | United Phosphorus, Inc., 630 Freedom Business Center, Suite 402, King of Prussia, PA 19406.
71368 | Nufarm Americas, Inc., 4020 Aerial Center Pkwy., Suite 103, Morrisville, NC 27560.
85827 | Green Light, A Valent U.S.A. Co., c/o Valent U.S.A. Corp., 1101 14th St., NW., Suite 1050, Washington, DC 20005.
CA050008; CA070010; CO070005; FL040012; PA070004; VA070001 | Nichino America, Inc., 4550 New Linden Hill Rd., Suite 501, Wilmington, DE 19808.
CA860037; ID060003; LA080011; OR060017 | FMC Corp., Agricultural Products Group, Attn: Michael C. Zucker, 1735 Market St., Rm. 1978, Philadelphia, PA 19103.
CO020008 | BASF Corporation,, Agricultural Products, 26 Davis Dr., P.O. Box 13528, Research Triangle Park, NC 27709-3528.
FL040012 | Nichino America, Inc., 4550 New Linden Hill Rd., Suite 501, Wilmington, DE 19808.
FL050005 | Griffin, LLC, P.O. Box 1847, Valdosta, GA 31603-1847.
FL860008 | Decco US Post-Harvest, Inc., 1713 South California Ave., Monrovia, CA 91016-0120.
LA040003 | Winfield Solutions, LLC, P.O. Box 64589, St. Paul, MN 55164-0589.
MS080002 | Cheminova, Inc., 1600 Wilson Blvd., Suite 700, Arlington, VA 22209.
NM020001 | BASF Corp., P.O. Box 13528, Research Triangle Park, NC 27709-3528.
NY070005 | Y-Tex Corp., P.O. Box 1450, Cody, WY 82414-1450.
PR110003 | Argo Servicios, Inc., P.O. Box 360393, San Juan, PR 00936-0393.
TX070002 | Dow Agrosciences, LLC, 9330 Zionsville Rd. 308/2A, Indianapolis, IN 46268-1054.
WA030004 | Champion Technologies, 3200 Southwest Freeway, Suite 2700, Houston, TX 77027.
WA030014 | Amvac Chemical Corporation 4695 MacArthur Ct., Suite1250, Newport Beach, CA 92660-1706.
WA910013 | Loveland Products, Inc., P.O. Box 1286, Greeley, CO 80632-1286.

III. Summary of Public Comments Received and Agency Response to Comments

During the public comment period provided, EPA received one comment in response to the July 6, 2012 Federal Register notice (77 FR 40039) (FRL-9351-8) announcing the Agency's receipt of the requests for voluntary cancellations of product listed in Table 1 of Unit II. The Agency does not believe that the comment submitted during the comment period merits further review or a denial of the request for voluntary cancellation.

IV. Cancellation Order

Pursuant to FIFRA section 6(f), EPA hereby approves the requested cancellations of the registrations identified in Table 1 of Unit II. Accordingly, the Agency hereby orders that the product registrations identified in Table 1 of Unit II., are canceled. The effective date of the cancellations that are the subject of this notice is February 6, 2013. Any distribution, sale, or use of existing stocks of the products identified in Table 1 of Unit II., in a manner inconsistent with any of the provisions for disposition of existing stocks set forth in Unit VI., will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of July 6, 2012. The comment period closed on January 2, 2013.

VI. Provisions for Disposition of Existing Stocks

Existing stocks are those stocks of registered pesticide products which are currently in the United States and which were packaged, labeled, and released for shipment prior to the effective date of the cancellation action. The existing stocks provisions for the products subject to this order are as follows.

A. Registrations Listed in Table I of Unit II

The registrants may continue to sell and distribute existing stocks of products listed in Table 1 of Unit II., until February 6, 2014, which is 1 year after the publication of the Cancellation Order in the Federal Register. Thereafter, the registrants are prohibited from selling or distributing products listed in Table 1 of Unit II., except for export in accordance with FIFRA section 17, or proper disposal. Persons other than the registrants may sell, distribute, or use existing stocks of products listed in Table 1 of Unit II., until existing stocks are exhausted, provided that such sale, distribution, or use is consistent with the terms of the previously approved labeling on, or that accompanied, the canceled products.

B. Registrations Listed in Table 2 of Unit II, Except Nos. CA860037, ID060003, and OR060017

The effective date of cancellation is the date of this cancellation order. The Agency had allowed registrants to sell and distribute existing stocks of these products until January 13, 2013, which is 1 year after the date on which the maintenance fee was due. Thereafter, registrants will be prohibited from selling or distributing the pesticides identified in Table 2 of Unit II., except for export consistent with FIFRA section 17 or for proper disposal. Persons other than registrants will generally be allowed to sell, distribute, or use existing stocks until such stocks are exhausted, provided that such sale, distribution, or use is consistent with the terms of the previously approved labeling on, or that accompanied, the cancelled products.

C. Registration Nos. CA860037, ID060003, and OR060017

The effective date of cancellation of these products is the date of publication of the cancellation order in the Federal Register. EPA will prohibit the continued sale and distribution of existing stocks of these products after the effective date of this cancellation.

List of Subjects

Environmental protection, Pesticides and pests.

Dated: January 31, 2013.
Richard P. Keigwin, Jr.,
Director, Pesticide Re-Evaluation Division, Office of Pesticide Programs.

[FR Doc. 2013-02698 Filed 2-5-13; 8:45 am]

BILLING CODE 6560-50-P